DEPARTMENT OF THE INTERIOR

Bureau of Indian Affairs

[245A2100DD/AAKC001030/A0A501010.999900]

Rate Adjustments for Indian Irrigation Projects

AGENCY: Bureau of Indian Affairs, Interior.

ACTION: Notice.

SUMMARY: The Bureau of Indian Affairs (BIA) owns or has an interest in irrigation projects located on or associated with various Indian reservations throughout the United States. We are required to establish irrigation assessment rates to recover the costs to administer, operate, maintain, and rehabilitate these projects. We are notifying you that we have adjusted the irrigation assessment rates at several of our irrigation projects and facilities to reflect current costs of administration, operation, maintenance, and rehabilitation.

DATES: The 2025 Irrigation Assessment Rates are effective on January 1, 2025.

FOR FURTHER INFORMATION CONTACT: Leslie Underwood, Program Specialist, Division of Water and Power, Office of Trust Services, (406) 657-5985. For details about a particular BIA irrigation project, please use the tables in the SUPPLEMENTARY INFORMATION section to contact the BIA regional or local office where the irrigation project is located.

SUPPLEMENTARY INFORMATION: Notices of Proposed Rate Adjustment were published in the Federal Register on February 8, 2024 (89 FR 8707) and May 6, 2024 (89 FR 37238) to propose adjustments to the irrigation assessment rates at several BIA irrigation projects. The public and interested parties were provided an opportunity to submit written comments during the 60-day period that ended April 8, 2024, and July 5, 2024, respectively.

Did BIA defer or change any proposed rate increases?

No. BIA did not defer or change any proposed rate increases.

Did BIA receive any comments on the proposed irrigation assessment rate adjustments?

Yes. BIA received five (5) written comments related to the proposed 2025 irrigation assessment rate adjustment for the BIA Colorado River Irrigation Project (CRIP). Comments were received by letter and email.

What issues were of concern to the commenters?

Comments received relate specifically to the proposed 2025 rate adjustment for CRIP and other issues associated only with CRIP. BIA's summary of the issues and responses are provided below.

Comment: Four commenters state a general opposition to the proposed CRIP 2025 rate increase because commenters believe basic services, such as water delivery, maintenance, and measurements are not being provided. The fifth commenter, Colorado River Indian Tribes (CRIT), generally supports the proposed 2025 rate adjustment and recommends BIA increase future rates because CRIT believes CRIP's operations and maintenance (O&M) are underfunded. CRIT further requests that the additional revenues from the rate increase be used to improve system performance and reliability.

Response: As noted when rates were proposed in the Federal Register on February 8, 2024 (89 FR 8707) and May 6, 2024 (89 FR 37238), BIA is required to establish irrigation assessment rates that recover the costs to administer, operate, maintain, and rehabilitate our projects. As owner of CRIP, BIA assesses rates to ensure adequate resources are made available to meet the requirements noted above. BIA's authority to assess rates is codified at 25 U.S.C. 381 et seq. and is addressed in BIA's regulations at 25 CFR part 171. See also February 29, 2008 (73 FR 11028). The procedures followed by BIA in adjusting its irrigation assessment rates are consistent with applicable law and past practice, and the methodology used by BIA to determine the O&M assessment rates for CRIP is reasonable.

The proposed 2025 irrigation assessment adjustments for CRIP's basic per acre rate categories are necessary and justified due to the increased costs associated with administering, operating, maintaining, and rehabilitating CRIP. In accordance with BIA financial guidelines and 25 CFR part 171, BIA developed the CRIP budget for 2025 expenditures and income approximately two years in advance. BIA relied on financial reports generated by the Financial and Business Management System and procurement files to review past expenditures and project a future budget. The CRIP Project Manager also used his discretion to assess and anticipate upcoming financial needs and priorities. The 2025 expenses were then divided by the total assessable acres within CRIP. The $5.00 per acre assessment increase for the “basic per acre” rate category is necessary to ensure CRIP can pay its anticipated expenses for 2025.

The BIA Colorado River Agency Superintendent and CRIP Project Manager routinely attend the CRIT Irrigation Committee's monthly meetings to provide project updates and explain proposed rate increases. BIA also met with CRIT's Tribal Council on March 25, 2024. On March 28, 2024, BIA held a water user meeting and attendees included individual water users, CRIT's legal counsel, CRIT's farm director, and a U.S. Fish and Wildlife Service biological science technician. During all of these meetings, BIA presented details supporting the 2025 budget, upcoming expenses, and the proposed O&M assessment increase from $64 to $69 per acre. BIA also explained it provides irrigation service commensurate with its resources, meaning the $5.00 per acre assessment increase is needed to improve the project's quality of service.

BIA agrees with commenters that CRIP's water measurement devices can be operated and maintained better to meet water delivery requirements, and BIA is working to resolve this issue with our contractors and experts. BIA is addressing priority deferred maintenance projects at CRIP by providing supplemental funding, engineering, design, and construction resources to CRIP. From 2022 through 2024, BIA allocated over $17 million in supplemental funding for deferred maintenance projects, such as Lateral 73-36 Check 1 and Main Canal Check rehabilitation. BIA provided this supplemental funding in addition to revenues collected from CRIP's assessable acres.

We appreciate water users' participation in our meetings and comments, and we have sent a follow-up letter to CRIT in response to their unique questions and concerns.

Comment: Commenters state CRIP is chronically understaffed due to its lengthy hiring process and Indian preference requirements, and request BIA hire more staff to improve water deliveries along with a specific concern that the project is understaffed and personnel costs should not increase until vacant positions are filled.

Response: Due to a variety of reasons, recruitment for CRIP positions has proved to be challenging. The BIA Western Regional Director and Human Resources team remain committed to filling vacancies in CRIP's 78-position organizational chart as rapidly as possible. We are currently seeking applicants for the following 13 positions: 2 Maintenance Workers, 3 Engineering Equipment Operators, 7 Irrigation System Operators, and 1 Accounting Technician. Applications are reviewed on a rolling basis, and all positions are open until filled. Preference in filing vacancies is given to qualified Indian candidates in accordance with the Indian Preference Act of 1934 (25 U.S.C. 5116). Given our difficulties with filling the Irrigation System Operator positions, BIA's Human Resources opened these positions to the public in April and authorized recruitment or relocation incentives. All applicants must apply online at www.usajobs.gov (search for BIA positions in Poston, Arizona). BIA also posted application information in local newspapers, and the Superintendent will be attending job fairs at local colleges to recruit.

CRIP's 2025 budget can support personnel salary, benefits, and overtime for up to 45 employees, which is an increase of 17 CRIP employees above the current 2024 staffing levels. The remaining 33 vacant positions in CRIP's organizational chart are not accounted for or funded in the 2025 budget. The quality of irrigation service will improve as vacancies are filled, while also retaining and increasing experience levels of existing CRIP staff.

Comment: Commenters state BIA should have anticipated lost revenue from 2023 excess water sales and is punishing irrigators for using less water.

Response: All presently assessable acres within CRIP must pay an annual basic per acre charge for up to 5.75 acre-feet of water. If additional water is available, irrigators may request more water and pay our per acre-foot fee for “excess water.” Because the availability of excess water fluctuates year-to-year along with irrigators' demands, CRIP's excess water revenue fluctuates. In calendar years 2020, 2021, and 2022, CRIP's excess water revenues were around $480,000, $830,000, and $650,000, respectively. Based on prior revenues, BIA budgeted for 2023 excess water revenues of $580,000. This estimate, however, fell short, and the actual excess water revenue was around $170,000 for 2023. While we do not know why irrigators ordered less excess water in 2023 than in prior years, we believe it might be in part due to the unusually wet spring in 2023.

Given the difficulties of predicting an upcoming year's rainfall and the amount of excess water irrigators will order, BIA's budgets will no longer rely on excess water revenues to fund operational expenses. Accordingly, BIA's budgeted excess water revenue for 2024 and 2025 has been reduced to $150,000 per year. If the revenues from excess water sales exceed our budgeted amounts, CRIP will allocate the extra funds to filling vacancies or addressing deferred maintenance. Going forth, CRIP's budget will instead rely on collections from our basic per acre assessment to fund O&M expenses. We do not intend to punish irrigators for ordering less water. Rather, our budgets must account for the fact that irrigators are conserving and improving their on-farm watering techniques.

Does this notice affect me?

This notice affects you if you own or lease land within the assessable acreage of one of our irrigation projects or if you have a carriage agreement with one of our irrigation projects.

Where can I get information on the regulatory and legal citations in this notice?

You can contact the appropriate office(s) stated in the tables for the irrigation project that serves you, or you can use the internet site for the Government Publishing Office at www.gpo.gov.

What authorizes you to issue this notice?

Our authority to issue this notice is vested in the Secretary of the Interior (Secretary) by 5 U.S.C. 301 and the Act of August 14, 1914 (38 Stat. 583; 25 U.S.C. 385). The Secretary has in turn delegated this authority to the Assistant Secretary—Indian Affairs under part 209, chapter 8.1A, of the Department of the Interior's Departmental Manual.

Whom can I contact for further information?

The following tables are the regional and project/agency contacts for our irrigation facilities.

Northwest Region Contacts
Bryan Mercier, Regional Director, Bureau of Indian Affairs, Northwest Regional Office, 911 NE 11th Avenue, Portland, OR 97232-4169. Telephone: (503) 231-6702.
Flathead Indian Irrigation Project | Eric Bruguier, Acting Irrigation Project Manager, 220 Project Drive, St. Ignatius, MT 59865. Telephone: (406) 745-2661
Fort Hall Irrigation Project | David Bollinger, Irrigation Project Manager, 36 Bannock Avenue, Fort Hall, ID 83203-0220. Telephone: (208) 238-1992.
Wapato Irrigation Project | Pete Plant, Project Administrator, 413 South Camas Avenue, Wapato, WA 98951-0220. Telephone: (509) 877-3155.
Rocky Mountain Region Contacts
Leslie Shakespeare, Acting Regional Director, Bureau of Indian Affairs, Rocky Mountain Regional Office, 2021 4th Avenue North, Billings, MT 59101. Telephone: (406) 247-7943.
Blackfeet Irrigation Project | Kenneth Bird, Superintendent, Greg Tatsey, Irrigation Project Manager, P.O. Box 880, Browning, MT 59417. Telephones: Superintendent (406) 338-7544; Irrigation Project Manager (406) 338-7519.
Crow Irrigation Project | Clifford Serawop, Superintendent, Jim Gappa, Acting Irrigation Project Manager (BIA), (Project O&M performed by Water Users Association), P.O. Box 69, Crow Agency, MT 59022. Telephones: Superintendent (406) 638-2672; Acting Irrigation Project Manager (406) 247-7998.
Fort Belknap Irrigation Project | Mark Azure, Superintendent, Jim Gappa, Acting Irrigation Project Manager (BIA), (Project O&M contracted to Tribes under PL 93-638), 158 Tribal Way, Suite B, Harlem, MT 59526. Telephones: Superintendent (406) 353-2901; Irrigation Project Manager, Tribal Office (406) 353-8454.
Fort Peck Irrigation Project | Anna Eder, Superintendent, Jim Gappa, Acting Irrigation Project Manager (BIA), (Project O&M performed by Fort Peck Water Users Association), P.O. Box 637, Poplar, MT 59255. Telephones: Superintendent (406) 768-5312; Acting Irrigation Project Manager (406) 247-7998.
Wind River Irrigation Project | Leslie Shakespeare, Superintendent, Jim Gappa, Acting Irrigation Project Manager (BIA), (Project O&M for Little Wind, Johnstown, and Lefthand Units contracted to Tribes under PL 93-638; Little Wind-Ray and Upper Wind Units O&M performed by Ray Canal, A Canal, and Crowheart Water Users Associations), P.O. Box 158, Fort Washakie, WY 82514. Telephones: Superintendent (307) 332-7810; Acting Irrigation Project Manager (406) 247-7998.
Southwest Region Contacts
Patricia L. Mattingly, Regional Director, Bureau of Indian Affairs, Southwest Regional Office, 1001 Indian School Road NW, Albuquerque, NM 87104. Telephone: (505) 563-3100.
Pine River Irrigation Project | Priscilla Bancroft, Superintendent, Vickie Begay, Irrigation Project Manager, P.O. Box 315, Ignacio, CO 81137-0315. Telephones: Superintendent (970) 563-4511; Irrigation Project Manager (970) 563-9484.
Western Region Contacts
Jessie Durham, Regional Director, Bureau of Indian Affairs, Western Regional Office, 2600 North Central Avenue, 4th Floor Mailroom, Phoenix, AZ 85004. Telephone: (602) 379-6600.
Colorado River Irrigation Project | Davetta Ameelyenah, Superintendent, Gary Colvin, Irrigation Project Manager, 12124 1st Avenue, Parker, AZ 85344. Telephones: Superintendent (928) 669-7111; (928) 662-4392 Irrigation Project Manager.
Duck Valley Irrigation Project | Phaline Conklin, Superintendent, (Project O&M compacted to Shoshone-Paiute Tribes under PL 93-638), 2719 Argent Avenue, Suite 4, Gateway Plaza, Elko, NV 89801. Telephones: Superintendent (775) 738-5165; Tribal Office (208) 759-3100.
Yuma Project, Indian Unit | Maureen Brown, Superintendent, (Bureau of Reclamation (BOR) owns the Project and is responsible for O&M), 256 South Second Avenue, Suite D, Yuma, AZ 85364. Telephones: Superintendent (928) 782-1202; BOR Area Office Manager (928) 343-8100.
San Carlos Irrigation Project (Indian Works and Joint Works) | Ferris Begay, Project Manager (BIA), Clarence Begay, Supervisory Civil Engineer (BIA), (Portions of Indian Works O&M compacted to Gila River Indian Community under PL 93-638; Joint Control Board is responsible for portions of Joint Works maintenance pursuant to Gila River Indian Community Water Rights Settlement Act of 2004, 118 Stat. 3499), 13805 North Arizona Boulevard, Coolidge, AZ 85128. Telephones: Project Manager (520) 723-6225; Supervisory Civil Engineer (520) 723-6203; Gila River Indian Irrigation & Drainage District (520) 562-6720; Joint Control Board (520) 562-9760, (520) 723-5408.
Uintah Irrigation Project | Antonio Pingree, Superintendent, Ken Asay, Irrigation System Manager (BIA), (Project O&M performed by Uintah Indian Irrigation Project Operation and Maintenance Company), P.O. Box 130, Fort Duchesne, UT 84026. Telephones: Superintendent (435) 722-4300; Irrigation System Manager (435) 722-4344; Uintah Indian Irrigation Operation and Maintenance Company (435) 724-5200.
Walker River Irrigation Project | Colleen Labelle, Superintendent, 311 East Washington Street, Carson City, NV 89701. Telephone: (775) 887-3500.

What irrigation assessments or charges are adjusted by this notice?

The rate table below contains final rates for the 2024 and 2025 calendar years for all irrigation projects where we recover costs of administering, operating, maintaining, and rehabilitating them. An asterisk immediately following the rate category notes irrigation projects where 2024 rates are different from the 2025 rates.

Project name | Rate category | Final 2024 rate | Final 2025 rate
Northwest Region Rate Table
Flathead Irrigation Project | Basic per acre—A | $39.00 | $39.00
| Basic per acre—B | 19.50 | 19.50
| Minimum Charge per tract | 75.00 | 75.00
Fort Hall Irrigation Project | Basic per acre * | 65.50 | 66.50
| Minimum Charge per tract * | 41.00 | 43.00
Fort Hall Irrigation Project—Minor Units | Basic per acre * | 45.00 | 45.50
| Minimum Charge per tract * | 41.00 | 43.00
Fort Hall Irrigation Project—Michaud Unit | Basic per acre * | 75.00 | 75.50
| Pressure per acre * | 116.50 | 117.00
| Minimum Charge per tract * | 41.00 | 43.00
Wapato Irrigation Project—Toppenish/Simcoe Units | Minimum Charge per bill | 28.00 | 28.00
| Basic per acre | 28.00 | 28.00
Wapato Irrigation Project—Ahtanum Units | Minimum Charge per bill | 35.00 | 35.00
| Basic per acre | 35.00 | 35.00
Wapato Irrigation Project—Satus Unit | Minimum Charge per bill | 100.00 | 100.00
| “A” Basic per acre | 86.00 | 86.00
| “B” Basic per acre | 92.00 | 92.00
Wapato Irrigation Project—Additional Works | Minimum Charge per bill | 100.00 | 100.00
| Basic per acre | 87.00 | 87.00
Wapato Irrigation Project—Water Rental | Minimum Charge per bill | 100.00 | 100.00
| Basic per acre | 100.00 | 100.00
Rocky Mountain Region Rate Table
Blackfeet Irrigation Project | Basic-per acre | 21.50 | 21.50
Crow Irrigation Project—Willow Creek O&M (includes Agency, Lodge Grass #1, Lodge Grass #2, Reno, Upper Little Horn, and Forty Mile Units) | Basic-per acre | 30.00 | 30.00
Crow Irrigation Project—All Others (includes Bighorn, Soap Creek, and Pryor Units) | Basic-per acre | 30.00 | 30.00
Crow Irrigation Project—Two Leggins Unit | Basic-per acre | 15.00 | 15.00
Crow Irrigation Two Leggins Drainage District | Basic-per acre | 3.00 | 3.00
Fort Belknap Irrigation Project | Basic-per acre | 20.00 | 20.00
Fort Peck Irrigation Project | Basic-per acre | 29.00 | 29.00
Wind River Irrigation Project—Units 2, 3 and 4 | Basic-per acre | 26.00 | 26.00
Wind River Irrigation Project—Unit 6 | Basic-per acre | 23.00 | 23.00
Wind River Irrigation Project—LeClair District (See Note #1) | Basic-per acre | 47.00 | 47.00
Wind River Irrigation Project—Crow Heart Unit | Basic-per acre | 16.50 | 16.50
Wind River Irrigation Project—A Canal Unit | Basic-per acre | 16.50 | 16.50
Wind River Irrigation Project—Riverton Valley Irrigation District (See Note #1) | Basic-per acre | 30.65 | 30.65
Southwest Region Rate Table
Pine River Irrigation Project | Minimum Charge per tract | 75.00 | 75.00
| Basic-per acre * | 23.50 | 24.00
Western Region Rate Table
Colorado River Irrigation Project | Basic per acre up to 5.75 acre-feet * | 64.00 | 69.00
| Excess Water per acre-foot over 5.75 acre-feet | 18.00 | 18.00
Duck Valley Irrigation Project | Basic per acre * | 5.30 | 11.00
Yuma Project, Indian Unit (See Note #2) | Basic per acre up to 5.0 acre-feet * | 184.00 | ( + )
| Excess Water per acre-foot over 5.0 acre-feet | 35.00 | ( + )
| Basic per acre up to 5.0 acre-feet (Ranch 5) | 184.00 | ( + )

San Carlos Irrigation Project (Joint Works) (See Note #3) | Basic per acre |  | $26.00 | $26.00
| Proposed 2025 Construction Water Rate Schedule:
|  | Off project construction | On project construction—gravity water | On project construction—pump water
| Administrative Fee | $300.00 | $300.00 | $300.00.
| Usage Fee | $250.00 per month | No Fee | $100.00 per acre foot.
| Excess Water Rate † | $5.00 per 1,000 gal | No Charge | No Charge.

Project name | Rate category | Final 2024 rate | Final 2025 rate
San Carlos Irrigation Project (Indian Works) (See Note #4) | Basic per acre | $99.62 | $93.85
Uintah Irrigation Project | Basic per acre * | 23.00 | 25.00
| Minimum Charge per bill | 25.00 | 25.00
Walker River Irrigation Project | Basic per acre * | 31.00 | 32.00
** Notes irrigation projects where BIA rates are adjusted.
+ These rates have not yet been determined.
† The excess water rate applies to all water used in excess of 50,000 gallons in any one month.
Note #1: O&M rates for LeClair and Riverton Valley Irrigation Districts apply to Trust lands that are serviced by each irrigation district. The annual O&M rates are based on budgets submitted by LeClair and Riverton Valley Irrigation Districts, respectively.
Note #2: The O&M rate for the Yuma Project, Indian Unit has two components. The first component of the O&M rate is established by the Bureau of Reclamation (BOR), the owner and operator of the Project. BOR's rate, which is based upon the annual budget submitted by BOR is $180.00 for 2024 but has not been established for 2025. The second component of the O&M rate is established by BIA to cover administrative costs, which includes billing and collections for the Project. The final 2024 BIA rate component is $4.00 per acre. The final 2025 BIA rate component is $4.50 per acre.
Note #3: The Construction Water Rate Schedule identifies fees assessed for use of irrigation water for non-irrigation purposes.
Note #4: The O&M rate for the San Carlos Irrigation Project—Indian Works has three components. The first component is established by BIA San Carlos Irrigation Project—Indian Works; the final 2024 and 2025 rate is $55.85 per acre. The second component is established by BIA San Carlos Irrigation Project—Joint Works; the final 2024 and 2025 rate is $26.00 per acre. The third component is established by the San Carlos Irrigation Project Joint Control Board (comprised of representatives from the Gila River Indian Community and the San Carlos Irrigation and Drainage District); the 2024 rate is $17.77 per acre, and the 2025 rate is $12.00 per acre.

Consultation and Coordination With Tribal Governments (Executive Order 13175)

The Department of the Interior strives to strengthen its government-to-government relationship with Indian Tribes through a commitment to consultation with Indian Tribes and recognition of their right to self-governance and Tribal sovereignty. We have evaluated this notice under the Department's consultation policy and under the criteria of Executive Order 13175 and have determined there to be substantial direct effects on federally recognized Tribes because the irrigation projects are located on or associated with Indian reservations. To fulfill its consultation responsibility to Tribes and Tribal organizations, BIA communicates, coordinates, and consults on a continuing basis with these entities on issues of water delivery, water availability, and costs of administration, operation, maintenance, and rehabilitation of projects that concern them. This is accomplished at the individual irrigation project by project, agency, and regional representatives, as appropriate, in accordance with local protocol and procedures. This notice is one component of our overall coordination and consultation process to provide notice to, and request comments from, these entities when we adjust irrigation assessment rates.

Actions Concerning Regulations That Significantly Affect Energy Supply, Distribution, or Use (Executive Order 13211)

These rate adjustments are not a significant energy action under the definition in Executive Order 13211. A Statement of Energy Effects is not required.

Regulatory Planning and Review (Executive Order 12866, as Amended by Executive Order 14094)

These rate adjustments are not a significant regulatory action and do not need to be reviewed by the Office of Management and Budget under Executive Order 12866, as amended by Executive Order 14094.

Regulatory Flexibility Act

These rate adjustments are not a rule for the purposes of the Regulatory Flexibility Act because they establish “a rule of particular applicability relating to rates.” 5 U.S.C. 601(2).

Unfunded Mandates Reform Act of 1995

These rate adjustments do not impose an unfunded mandate on state, local, or Tribal governments in the aggregate, or on the private sector, of more than $130 million per year. They do not have a significant or unique effect on State, local, or Tribal governments or the private sector. Therefore, the Department is not required to prepare a statement containing the information required by the Unfunded Mandates Reform Act (2 U.S.C. 1531 et seq.).

Takings (Executive Order 12630)

These rate adjustments do not effect a taking of private property or otherwise have “takings” implications under Executive Order 12630. The rate adjustments do not deprive the public, State, or local governments of rights or property.

Federalism (Executive Order 13132)

Under the criteria in section 1 of Executive Order 13132, these rate adjustments do not have sufficient federalism implications to warrant the preparation of a federalism summary impact statement because they will not affect the States, the relationship between the national government and the States, or the distribution of power and responsibilities among the various levels of government. A federalism summary impact statement is not required.

Civil Justice Reform (Executive Order 12988)

This notice complies with the requirements of Executive Order 12988. Specifically, in issuing this notice, the Department has taken the necessary steps to eliminate drafting errors and ambiguity, minimize potential litigation, and provide a clear legal standard for affected conduct as required by section 3 of Executive Order 12988.

Paperwork Reduction Act of 1995

These rate adjustments do not affect the collections of information which have been approved by the Office of Information and Regulatory Affairs, Office of Management and Budget (OMB) under the Paperwork Reduction Act of 1995. The OMB Control Number is 1076-0141 and expires March 31, 2026.

National Environmental Policy Act

The Department has determined that these rate adjustments do not constitute a major Federal action significantly affecting the quality of the human environment and that no detailed statement is required under the National Environmental Policy Act of 1969, 42 U.S.C. 4321-4370(d)), pursuant to 43 CFR 46.210(i). In addition, the rate adjustments do not present any of the 12 extraordinary circumstances listed at 43 CFR 46.215.

Bryan Newland,
Assistant Secretary—Indian Affairs.

[FR Doc. 2024-17669 Filed 8-8-24; 8:45 am]

BILLING CODE 4337-15-P